DEPARTMENT OF STATE

[Public Notice 3551]

New Conservation Measures for Antarctic Fishing Under the Auspices of CCAMLR

ACTION: Notice.

SUMMARY: At its Nineteenth Meeting in Hobart, Tasmania, October 23 to November 3, 2000, the Commission for the Conservation of Antarctic Marine Living Resources (CCAMLR), of which the United States is a member, adopted conservation measures, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. A complete list of all Conservation Measures in force, including those adopted at the Nineteenth Meeting are obtainable on request through the Department of State's Office of Oceans Affairs or by Internet at www.ccamlr.org. This notice, therefore, together with the U.S. regulations referenced under the Supplementary Information provides a comprehensive register of all current U.S. obligations under CCAMLR.

DATES: Persons wishing to comment on the measures or desiring more information should submit written comments within 30 days of this announcement.

FOR FURTHER INFORMATION CONTACT: Jean-Pierre Plé, Office of Oceans Affairs (OES/OA), Room 5805, Department of State, Washington, DC 20520; tel: 202-647-3263; fax: 202-647-4563; email: plejp@state.gov; or Jennifer Barnes, Office of Oceans Affairs (OES/OA), Room 5805, Department of State, Washington, DC 20520; tel: 202-647-3947; fax: 202-647-9099; email: barnesjl@state.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Convention area and contain the text of CCAMLR Conservation Measures that are not expected to change from year to year. The regulations in Subparts A and G include sections on; Purpose and scope; Definitions; Relationship to other treaties, conventions, laws, and regulations; Procedure for according protection to CCAMLR Ecosystem Monitoring Program Sites; Scientific Research; Initiating a new fishery; Exploratory fisheries; Reporting and recordkeeping requirements; Vessel and gear identification; Gear disposal; Mesh Size; Harvesting permits; Import permits; Appointment of a designated representative; Prohibitions; Facilitation of enforcement and inspection; and Penalties.

Conservation Measures Remaining in Force: The Commission agreed that the Conservation Measures 2/III, 3/IV, 4/V, 5/V, 6/V, 7/V, 19/IX, 31/X, 40/X, 45/XIV, 61/XII, 63/XV, 65/XII, 72/XVII, 73/XVII, 95/XIV, 118/XVII, 119/XVII, 129/XVI, 146/XVII, 148/XVII, 160/XVII, 171/XVIII, 173/XVIII, and 180/XVIII, and Resolutions 7/IX and 10/XII remain in force as they stand.

Conservation Measures adopted at the Nineteeth Annual Meeting include: 18/XIX, 29/XIX, 32/XIX, 51/XIX, 62/XIX, 64/XIX, 82/XIX, 106/XIX, 121/XIX, 122/XIX, 147/XIX, 170/XIX, and 192/XIX to 215/XIX, inclusive. CCAMLR also adopted Resolutions 13/XIX, 14/XIX, 15/XIX and 16/XIX.

For a complete list of all Conservation Measures in force see the CCAMLR website, www.ccamlr.org, contact CCAMLR directly, or send your request to the Department of State's Office of Oceans Affairs (listed above): CCAMLR Secretariat, P.O. Box 213, North Hobart, Tasmania 7002, Tel: [61] 3 6231 0366, Fax: [61] 3 6234 9965.

Dated: January 17, 2001.
Raymond V. Arnaudo,
Acting Director, Office of Oceans Affairs, Department of State.

[FR Doc. 01-2033 Filed 1-22-01; 8:45 am]

BILLING CODE 4710-09-P